DEPARTMENT OF ENERGY

Federal Energy Regulatory Commission

Combined Notice of Filings #1

August 16, 2005.

Take notice that the Commission received the following electric rate filings:

Docket Numbers: ER05-1306-000.

Applicants: Westar Energy, Inc.

Description: Westar Energy, Inc submits a Notice of Cancellation of an Electric Power Supply Agreement between Westar and the City of Chapman, Kansas, designated as Rate Schedule No. 231.

Filed Date: 08/08/2005.

Accession Number: 20050811-0162.

Comment Date: 5 p.m. eastern time on Monday, August 29, 2005.

Docket Numbers: ER05-1315-000.

Applicants: North Western Energy.

Description: NorthWestern Corporation d/b/a NorthWestern Energy submits an amendment to the Firm Point-to-Point Transmission Service Agreement No. 10-SD under NorthWestern Energy's OATT Original Volume No. 2, between the Town of Langford, South Dakota and NorthWestern Energy.

Filed Date: 08/11/2005.

Accession Number: 20050815-0219.

Comment Date: 5 p.m. eastern time on Thursday, September 01, 2005.

Docket Numbers: ER05-1316-000.

Applicants: Kumeyaay Wind LLC.

Description: Kumeyaay Wind LLC submits an application for market-based rate authority under section 205 of the Federal Power Act, and request for expedited consideration and for waivers and pre-approvals.

Filed Date: 08/11/2005.

Accession Number: 20050815-0220.

Comment Date: 5 p.m. eastern time on Thursday, September 01, 2005.

Docket Numbers: ER05-1319-000.

Applicants: Pacific Gas and Electric Company.

Description: Pacific Gas and Electric Company submits an amendment to its Wholesale Distribution Tariff, FERC Electric Tariff, First Revised Volume No. 4.

Filed Date: 08/12/2005.

Accession Number: 20050815-0266.

Comment Date: 5 p.m. eastern time on Friday, September 02, 2005.

Docket Numbers: ER05-1321-000.

Applicants: Portland General Electric Company.

Description: Portland General Electric Company submits revisions to its Pro Forma Open Access Transmission Tariff.

Filed Date: 08/12/2005.

Accession Number: 20050815-0215.

Comment Date: 5 p.m. eastern time on Friday, September 02, 2005.

Docket Numbers: ER05-1323-000.

Applicants: Northeast Utilities Service Company.

Description: Northeast Utilities Service Company on behalf of its transmission-owning affiliates submits a Notice of Cancellation of NU Companies Service Agreement 27 under ISO New England, Inc. FERC Electric Tariff No. 3 Attachment E, Schedule 21-NU and First Revised Service Agreement No. 1 IA-NU-5.

Filed Date: 08/11/2005.

Accession Number: 20050815-0237.

Comment Date: 5 p.m. eastern time on Thursday, September 01, 2005.

Docket Numbers: ER05-1324-000.

Applicants: San Diego Gas & Electric Company.

Description: San Diego Gas & Electric Company submits revisions to its FERC Electric Tariff, Original Volume No. 5.

Filed Date: 08/12/2005.

Accession Number: 20050815-0267.

Comment Date: 5 p.m. eastern time on Friday, September 02, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4556 Filed 8-19-05; 8:45 am]

BILLING CODE 6717-01-P